DEPARTMENT OF THE INTERIOR

National Park Service

National Preservation Technology and Training Board—National Center for Preservation Technology and Training: Meeting

AGENCY: National Park Service, U.S. Department of the Interior.

ACTION: Notice.

SUMMARY: Notice is hereby given in accordance with the Federal Advisory Committee Act (FACA) (5 U.S.C. Appendix (1988)), that the Preservation Technology and Training Board (Board) of the National Center for Preservation Technology and Training, National Park Service will meet on Thursday, March 30, 2006, and Friday, March 31, 2006, in Natchitoches, Louisiana.

The Board was established by Congress to provide leadership, policy advice, and professional oversight to the National Park Service's National Center for Preservation Technology and Training (National Center) in compliance with Section 404 of the National Historic Preservation Act of 1966, as amended, (16 U.S.C. 470x-2(e)).

The Board will meet at the Headquarters of the National Center in Lee H. Nelson Hall on the campus of Northwestern State University, 645 University Parkway, Natchitoches, Louisiana 71457—telephone (318) 356-7444. The meeting will begin on Thursday, March 30, 2006 at 9 a.m., and end no later than 5 p.m., and on Friday, March 31, 2006 the meeting will begin at 9 a.m., and end no later than 12 noon.

The Board's meeting agenda will include: Review and comment on National Center operations priorities for FY 2006 and 2007; status of FY2006 National Center budget and initiatives; development and launch of the Lee H. Nelson Prize in Historic Preservation Technology; proposed Wingspread Conference on Sustainability in Preservation; and Board workgroup reports.

The Board meeting is open to the public. Facilities and space for accommodating members of the public are limited, however, and persons will be accommodated on a first come, first served basis. Any member of the public may file a written statement concerning any of the matters to be discussed by the Board.

Persons wishing more information concerning this meeting, or who wish to submit written statements, may contact: Mr. John A. Burns, Acting Assistant Associate Director, Heritage Preservation Assistance Programs, National Park Service, U.S. Department of the Interior, 1849 C Street, NW., Mail Stop 2250, Washington, DC 20240, telephone (202) 354-2118. Increased security in the Washington, DC area may cause delays in the delivery of the U.S. Mail or commercial delivery to government office buildings. In addition to U.S. Mail or commercial delivery, written comments may be sent by fax to Mr. Burns at (202) 371-6485.

Minutes of the meeting will be available for public inspection no later than 90 days after the meeting at the office of the Acting Assistant Associate Director, Heritage Preservation Assistance Programs, National Park Service, U.S. Department of the Interior, 1201 I Street, NW., Room 745, Washington, DC 20240, telephone (202) 354-2118.

Dated: February 27, 2006.
John A. Burns,
Acting Assistant Associate Director, Heritage Preservation Assistance Programs, National Park Service.

[FR Doc. E6-3289 Filed 3-7-06; 8:45 am]

BILLING CODE 4312-52-P